DEPARTMENT OF THE INTERIOR

Bureau of Land Management

[PO#4820000251; Order #02412-014-004-047181.0]

Final Environmental Impact Statement for the Proposed Spring Valley Mine Project, Nevada

AGENCY: Bureau of Land Management, Interior.

ACTION: Notice of availability.

SUMMARY: In compliance with the National Environmental Policy Act of 1969, as amended (NEPA), and the Federal Land Policy and Management Act of 1976, as amended (FLPMA), the Bureau of Land Management (BLM) announces the availability of the final environmental impact Statement (EIS) for the proposed Spring Valley Mine Project.

DATES: The BLM will not issue a decision on the proposal until a minimum of 30 days after the date that the Environmental Protection Agency (EPA) publishes its Notice of Availability (NOA) in the Federal Register. The EPA usually publishes its NOAs on Fridays.

ADDRESSES: The Final EIS and documents pertinent to this proposal are available for review on the BLM ePlanning project website at https://eplanning.blm.gov/eplanning-ui/project/2030469/510.

FOR FURTHER INFORMATION CONTACT: Robert Sevon, Project Manager, telephone (775) 623-1502; address 5100 East Winnemucca Boulevard, Winnemucca, Nevada 89445; email rsevon@blm.gov. Individuals in the United States who are deaf, deafblind, hard of hearing, or have a speech disability may dial 711 (TTY, TDD, or TeleBraille) to access telecommunications relay services for contacting Mr. Sevon. Individuals outside the United States should use the relay services offered within their country to make international calls to the point-of-contact in the United States.

SUPPLEMENTARY INFORMATION:

Purpose and Need for Action

The BLM's purpose for the Federal action is to respond to Solidus Resources, LLC's project proposal, as described in the Plan of Operations and the applicable rights-of-way (ROWs), and to analyze the potential environmental effects associated with the Proposed Action and alternatives to the Proposed Action, consider reasonable alternatives, and consider mitigation of environmental impacts.

The BLM's need for the Federal action is established by the BLM's responsibilities under the surface management regulations at 43 CFR part 3809 and under section 302(b) of the FLPMA, including Title V, regarding ROWs (43 CFR part 2800), to respond to a request for a surface use authorization under a Plan of Operations and two associated Plans of Development for ROWs, and to take any action necessary to prevent unnecessary or undue degradation of public lands as a result of the actions taken to prospect, explore, assess, develop, and process mineral resources that are subject to disposal under the mining laws on public lands.

Proposed Action and Alternatives

The Proposed Action and No Action alternative were carried forward. Several alternatives were identified based on scoping issues and suggestions. Alternatives included different mine design and layout, renewable energy, water management and alternative access. Each alternative was considered and dismissed from full analysis based on feasibility and environmental concerns. Alternatives reviewed and dismissed from full analysis are outlined in the Draft and Final EIS.

The Proposed Action includes the construction, operation, reclamation, and closure of the Spring Valley Mine in Pershing County, Nevada, and would include:

• One open pit and associated haul roads;

• Three waste rock disposal facilities;

• A heap leach pad, a process solution pond, and processing facilities;

• The modification, re-route, and upgrade of Spring Valley Road; and

• The realignment of two power transmission lines.

The Proposed Action would include 4,123 acres of disturbance on land administered by the BLM and 2,109 acres on private land. The total life of the project would be 29 years, including 2 years of construction, 11 years of mining, 3 additional years of ore processing, and 13 years of closure and reclamation activities. The Spring Valley Mine Project would employ a contractor workforce of approximately 130 contractors during the construction period and approximately 250 full-time employees during operations.

Under the No Action Alternative, the development of the Project would not be authorized and Solidus Resources, LLC, would not construct, operate, and close a new gold mine project.

Mitigation

Mitigation is included in the Final EIS for Cultural Resources, Water Resources, and Wildlife Resources. Mitigation for cultural resources was developed for potential effects to 20 National Register of Historic Places eligible historic properties and includes development of a Historic Properties Treatment Plan and Memorandum of Availability. Mitigation for Water Resources was developed for surface disturbance, fencing, and potential groundwater drawdown effects to spring sites and includes monitoring for triggers, and different mitigation types to reduce effects. Mitigation for wildlife was developed for potential effects to desert kangaroo rats, greater sage-grouse, and burrowing owls, and includes flushing burrows, use of the State of Nevada Conservation Credit System, and installation of artificial burrows.

Based on the analyses contained in the Final EIS for the proposed Project, and after carefully considering input received from the public and cooperating agencies, the BLM has selected the Proposed Action as the BLM's preferred alternative and the No Action Alternative as the environmentally preferred alternative.

Comments on the Draft EIS received from the public and internal BLM review were considered and incorporated as appropriate into the Final EIS. Public comments resulted in the addition of clarifying text, but did not significantly change proposed decisions.

(Authority: 43 CFR 46.415(c))

Samuel R. Burton,
District Manager, Winnemucca District Office.

[FR Doc. 2025-10525 Filed 6-12-25; 8:45 am]

BILLING CODE 4331-21-P